DEPARTMENT OF THE INTERIOR

Fish and Wildlife Service

[FWS-R2-ES-2014-N172; FXES11130200000F5-145-FF02ENEH00]

Emergency Exemption; Issuance of Emergency Permits to Survey for New Mexico Meadow Jumping Mouse Within Arizona, Colorado, and New Mexico

AGENCY: Fish and Wildlife Service, Interior.

ACTION: Notice of issuance of endangered species emergency permits.

SUMMARY: The final rule to list the New Mexico meadow jumping mouse as endangered throughout its range in New Mexico published in the Federal Register on June 10, 2014. Without authorized personnel to survey for this species, valuable information on population numbers for this elusive species would be lost for the 2014 field season. Under an Endangered Species Act permit, we, the U.S. Fish and Wildlife Service have authorized qualified researchers to survey for New Mexico meadow jumping mouse during its survey season of July and August 2014.

ADDRESSES: Documents and other information concerning the permit are available for review, subject to the requirements of the Privacy Act and Freedom of Information Act. Documents will be available for public inspection, by appointment only, during normal business hours at the U.S. Fish and Wildlife Service, 500 Gold Ave. SW., Room 6034, Albuquerque, NM 87103.

FOR FURTHER INFORMATION CONTACT: Susan Jacobsen, Chief, Division of Classification and Restoration, P.O. Box 1306, Albuquerque, NM 87103; (505) 248-6920.

SUPPLEMENTARY INFORMATION: The final rule to list the New Mexico meadow jumping mouse (Zapus hudsonicus luteus) as endangered throughout its range in New Mexico published in the Federal Register on June 10, 2014 (79 FR 33119). Without authorized personnel to survey for this species, valuable information on population numbers for this elusive species would be lost for the 2014 field season. Under permits pursuant to the Endangered Species Act, as amended (16 U.S.C. 1531 et seq.), we have authorized qualified researchers to survey for New Mexico meadow jumping mouse during its survey season of July and August 2014.

Since 2005, there have been 29 documented remaining populations (2 in Colorado, 15 in New Mexico, and 12 in Arizona) spread across eight geographic management areas. Nearly all of these populations are isolated and widely separated, and all have patches of suitable habitat that are too small to support resilient populations of the mouse. Since 2005, four of the eight geographic management areas have two or more locations known to be occupied by the jumping mouse, but all are too small to support resilient populations. The remaining four areas have only one location known to be occupied since 2005, and each population is too small to be resilient. Due to the small population size estimates, surveys are needed to determine actual numbers.

The New Mexico meadow jumping mouse is a small mammal that hibernates about 8 or 9 months out of the year—longer than most mammals—and is only active 3 or 4 months during the summer. Within this short time frame, it must breed, birth, raise young, and store up sufficient fat reserves to survive the next year's hibernation period. In addition, the species only lives up to 1 years and has one litter annually, with seven or fewer young. As a result, if resources are not available in a single season, populations are greatly stressed.

The species' historical distribution likely included riparian wetlands along streams in the Sangre de Cristo and San Juan Mountains, from southern Colorado to central New Mexico, including the Jemez and Sacramento Mountains and the Rio Grande Valley from Espanola to Bosque del Apache National Wildlife Refuge, and into parts of the White Mountains in eastern Arizona.

Permit TE-40088B

Applicant: Jennifer Frey, Radium Springs, New Mexico.

We approved the applicant's request for a new permit for research and recovery purposes to conduct presence/absence surveys of New Mexico meadow jumping mouse within New Mexico, Arizona, and Colorado.

Permit TE-40886B

Applicant: Jennifer Zahratka, Durango, Colorado.

We approved the applicant's request for a new permit for research and recovery purposes to conduct presence/absence surveys of New Mexico meadow jumping mouse within Colorado and New Mexico.

Permit TE-676811

Applicant: U.S. Fish and Wildlife Service, Southwest Region, Albuquerque, New Mexico.

We approved the applicant's request for an amendment to a current permit for research and recovery purposes to conduct presence/absence surveys of New Mexico meadow jumping mouse within Arizona, Colorado, and New Mexico.

These emergency permits are issued for the sole purpose of facilitating presence/absence surveys for the 2014 survey season. Any further authorization for surveys or research of the New Mexico meadow jumping mouse will be processed separately.

Authority: 16 U.S.C. 1531 et seq.

Dated: August 21, 2014.
Joy E. Nicholopoulos,
Regional Director, Southwest Region, Fish and Wildlife Service.

[FR Doc. 2014-21659 Filed 9-10-14; 8:45 am]

BILLING CODE 4310-55-P